FEDERAL COMMUNICATIONS COMMISSION

[17294]

Open Commission Meeting, Thursday, December 10, 2020

The Federal Communications Commission will hold an Open Meeting on the subjects listed below on Thursday, December 10, 2020, which is scheduled to commence at 10:30 a.m. Due to the current COVID-19 pandemic and related agency telework and headquarters access policies, this meeting will be in a wholly electronic format and will be open to the public on the internet via live feed from the FCC's web page at www.fcc.gov/live and on the FCC's YouTube channel.

Item No. | Bureau | Subject
1 | WIRELINE COMPETITION | TITLE: Securing the Communications Supply Chain (WC Docket No. 18-89).
|  | SUMMARY: The Commission will consider a Report and Order that would require Eligible Telecommunications Carriers to remove equipment and services that pose an unacceptable risk to the national security of the United States or the security and safety of its people, would establish the Secure and Trusted Communications Networks Reimbursement Program, and would establish the procedures and criteria for publishing a list of covered communications equipment and services that must be removed.
2 | WIRELINE COMPETITION AND PUBLIC SAFETY & HOMELAND SECURITY | TITLE: National Security Matter.
|  | SUMMARY: The Commission will consider a national security matter.
3 | INTERNATIONAL | TITLE: National Security Matter.
|  | SUMMARY: The Commission will consider a national security matter.
4 | OFFICE OF ENGINEERING AND TECHNOLOGY | TITLE: Allowing Earlier Equipment Marketing and Importation Opportunities (ET Docket No. 20-382); Petition to Expand Marketing Opportunities for Innovative Technologies (RM-11857).
|  | SUMMARY: The Commission will consider a Notice of Proposed Rulemaking that would propose updates to its marketing and importation rules to permit, prior to equipment authorization, conditional sales of radiofrequency devices to consumers under certain circumstances and importation of a limited number of radiofrequency devices for certain pre-sale activities.
5 | MEDIA | TITLE: Promoting Broadcast Internet Innovation Through ATSC 3.0 (MB Docket No. 20-145).
|  | SUMMARY: The Commission will consider a Report and Order that would modify and clarify existing rules to promote the deployment of Broadcast Internet services as part of the transition to ATSC 3.0.
6 | MEDIA | TITLE: Florida Community Radio, Inc., Construction Permit for Proposed NCE Station DWRBD (FM), Horseshoe Beach, Florida.
|  | SUMMARY: The Commission will consider an Order on Reconsideration concerning the expiration of the construction permit of Florida Community Radio, Inc, for a new noncommercial educational FM station at Horseshoe Beach, Florida.
7 | CONSUMER & GOVERNMENTAL AFFAIRS | TITLE: Rules and Regulations Implementing the Telephone Consumer Protection Act of 1991; Broadnet Teleservices LLC Petition for Declaratory Ruling; National Consumer Law Center Petition for Reconsideration and Request for Stay Pending Reconsideration of Broadnet Teleservices LLC Petition for Declaratory Ruling; Professional Services Council Petition for Reconsideration of Broadnet Teleservices LLC Petition for Declaratory Ruling (CG Docket No. 02-278).
|  | SUMMARY: The Commission will consider an Order on Reconsideration of its previous interpretation of the Telephone Consumer Protection Act that permitted certain government and government contractor calls without consumers' prior express consent.
8 | ENFORCEMENT | TITLE Implementing Section 10(a) of the Pallone-Thune Telephone Robocall Abuse Criminal Enforcement and Deterrence Act (TRACED Act) (EB Docket No. 20-374).
|  | SUMMARY: The Commission will consider a Notice of Proposed Rulemaking that would begin the process of implementing section 10(a) of the TRACED Act, which directs the Commission, no later than June 30, 2021, to “prescribe regulations to establish a process that streamlines the ways in which a private entity may voluntarily share with the Commission information relating” to violations of section 227(b) or 227(e) of the Communications Act.
9 | WIRELINE COMPETITION | TITLE: Modernizing the E-Rate Program for Schools and Libraries (WC Docket No. 13-184).
|  | SUMMARY: The Commission will consider an Order that would amend the invoice filing deadline rule to enhance the efficient administration of the E-Rate Program and ensure program participants have sufficient time to complete the invoice payment process.
10 | OFFICE OF MANAGING DIRECTOR | TITLE: Amendment of Part 1 of the Commission's Rules (MD Docket No. 20-64).
|  | SUMMARY: The Commission will consider an Order that would modify its rules to require the electronic payment of fees for activities delegated to the FCC's Media Bureau.

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Additional information concerning this meeting may be obtained from the Office of Media Relations, (202) 418-0500. Audio/Video coverage of the meeting will be broadcast live with open captioning over the internet from the FCC Live web page at www.fcc.gov/live.

Federal Communications Commission.
Dated: December 3, 2020.
Marlene Dortch,
Secretary.

[FR Doc. 2020-27216 Filed 12-10-20; 8:45 am]

BILLING CODE 6712-01-P